DEPARTMENT OF ENERGY

Federal Energy Regulatory Commission

[Docket Nos. CP17-40-000 and CP17-40-001]

Spire STL Pipeline LLC; Supplemental Notice of Availability of the Environmental Assessment and Reopening of Comment Period for the Proposed Spire STL Pipeline Project

On September 29, 2017, the Federal Energy Regulatory Commission (FERC or Commission) issued in Docket Nos. CP17-40-000 and CP17-40-001 a Notice of Availability of the Environmental Assessment for the Proposed Spire STL Pipeline Project. FERC has subsequently learned that delivery of the CD version of the Environmental Assessment (EA) was delayed and as a result some stakeholders did not receive a copy of the EA until after the comment period had closed. In recognition of the delay in receipt, this supplemental notice announces the opening of another comment period.

A CD containing an electronic copy of the EA was previously mailed to you. Alternatively, the EA is available for public viewing on the FERC's Web site (www.ferc.gov) using the eLibrary link and searching for accession number 20170929-3022; the direct link is as follows: http://elibrary.FERC.gov/idmws/file_list.asp?accession_num=20170929-3022.

The enclosure contains the original notice of availability describing the project and the methods you can use to file your comments to the Commission. To ensure that the Commission has the opportunity to consider your comments prior to making its decision on this project, it is important that we receive your comments in Washington, DC on or before December 22, 2017.

Dated: November 22, 2017.
Kimberly D. Bose,
Secretary.

[FR Doc. 2017-25998 Filed 12-1-17; 8:45 am]

BILLING CODE 6717-01-P